DEPARTMENT OF THE TREASURY

Alcohol and Tobacco Tax and Trade Bureau

27 CFR Part 9

[Docket No. TTB-2018-0008; Notice No. 177]

RIN 1513-AC40

Proposed Establishment of the West Sonoma Coast Viticultural Area

Correction

In proposed rule document 2018-26321 beginning on page 62750 in the issue of Thursday, December 6, 2018, make the following correction:

On page 62751, in the first column, in the DATES heading, the second line, “January 7, 2018” should read “February 4, 2018”.

[FR Doc. C1-2018-26321 Filed 12-11-18; 8:45 am]

BILLING CODE 1301-00-D